DEPARTMENT OF LABOR

Employment and Training Administration

[TA-W-50,186]

Don Shapiro Industries, Inc., Doing Business as Action West, Baxter International Corp., El Paso, TX; Amended Certification Regarding Eligibility to Apply for Worker Adjustment Assistance

In accordance with section 223 of the Trade Act of 1974 (19 U.S.C. 2273), as amended, the Department of Labor issued a Certification of Eligibility to Apply for Worker Adjustment Assistance on December 12, 2002, applicable to workers of Don Shapiro Industries, Inc., doing business as Action West, located in El Paso, Texas. The notice was published in the Federal Register on January 9, 2003 (68 FR 1201).

At the request of petitioners, the Department reviewed the certification for workers of Action West in El Paso, Texas. New information obtained from the company, shows that on November 7, 2003, Baxter International Corporation acquired the employees and certain assets of the subject firm at the El Paso, Texas location. Some workers have been subsequently separated from employment with Baxter International Corporation.

It is the Department's intent to cover all workers of the firm impacted by increased imports. Accordingly, the Department is amending the certification to expand coverage to workers of the successor firm, Baxter International Corporation.

The amended notice applicable to TA-W-50,186 is hereby issued as follows:

All workers of Don Shapiro Industries, Inc., doing business as Action West, currently known as Baxter Industries Corporation, El Paso, Texas, who became totally or partially separated from employment on or after December 27, 2002, through December 12, 2004, are eligible to apply for adjustment assistance under section 223 of the Trade Act of 1974.

Signed in Washington, DC, this 27th day of April, 2004.
Linda G. Poole,
Certifying Officer, Division of Trade Adjustment Assistance.

[FR Doc. 04-10865 Filed 5-12-04; 8:45 am]

BILLING CODE 4510-13-P